DEPARTMENT OF LABOR

Employment and Training Administration

[TA-W-63,793]

General Motors Corporation, Vehicle Manufacturing Division, Shreveport Assembly Plant, Including On-Site Leased Workers From Developmental Dimensions International and Premier Manufacturing Support Services, Including On-Site Workers From Delphi Corporation Shreveport, LA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 27, 2008, applicable to workers of General Motors Corporation, vehicle Manufacturing Division, Shreveport Assembly Plant, including on-site leased workers of Developmental Dimensions International, Shreveport, Louisiana. The notice was published in the Federal Register on September 12, 2008 (73 FR 53045). The notice was amended on October 9, 2008 to include on-site leased workers from Premier Manufacturing Support Services. The notice was published in the Federal Register on October 20, 2008 (73 FR 62321).

At the request of the petitioners, the Department reviewed the certification for workers of the subject firm. The workers assemble Chevrolet Colorado, GMC Canyon and Hummer H3 vehicles.

New information shows that workers of Delphi Corporation were employed on-site to provide engineering support services at the Shreveport Assembly Plant, Shreveport, Louisiana location of General Motors, Vehicle Manufacturing Division.

The Department has determined that these workers were in support and sufficiently under the control of the subject firm to be included this certification.

Based on these findings, the Department is amending this certification to include workers of Delphi Corporation working on-site at the Shreveport Assembly Plant, Shreveport, Louisiana location of the subject firm.

The intent of the Department's certification is to include all workers employed at General Motors Corporation, Vehicle Manufacturing Division, Shreveport Assembly Plant, Shreveport, Louisiana who were adversely affected by increased imports of Chevrolet Colorado, GMC Canyon and Hummer H3 vehicles.

The amended notice applicable to TA-W-63,793 is hereby issued as follows:

All workers of General Motors Corporation, Vehicle Manufacturing Division, Shreveport Assembly Plant, including on-site leased workers from Developmental Dimensions International, Premier Manufacturing Support Services and including on-site workers from Delphi Corporation, Shreveport, Louisiana, who became totally or partially separated from employment on or after August 1, 2007, through August 27, 2010, are eligible to apply for adjustment assistance under Section 223 of the Trade Act of 1974, and are also eligible to apply for alternative trade adjustment assistance under Section 246 of the Trade Act of 1974.

Signed at Washington, DC, this 20th day of November 2009.
Richard Church,
Certifying Officer, Division of Trade Adjustment Assistance.

[FR Doc. E9-29508 Filed 12-10-09; 8:45 am]

BILLING CODE 4510-FN-P